DEPARTMENT OF JUSTICE

Drug Enforcement Administration

Manufacturer of Controlled Substances, Notice of Application; Cayman Chemical Company

Pursuant to § 1301.33(a), Title 21 of the Code of Federal Regulations (CFR), this is notice that on February 27, 2012, Cayman Chemical Company, 1180 East Ellsworth Road, Ann Arbor, Michigan 48108, made application to the Drug Enforcement Administration (DEA) to be registered as a bulk manufacturer of the following basic classes of controlled substances:

Drug | Schedule
4-methyl-N-methylcathinone (1248) | I
Gamma Hydroxybutyric Acid (2010) | I
Mescaline (7381) | I
N-Benzylpiperazine (7493) | I
3,4-methylenedioxypyrovalerone (7535) | I
3,4-methylenedioxy-N-methylcathinone (7540) | I

The company plans to manufacture the above listed controlled substances to supply these materials to the research and forensics community for drug testing and analysis.

Any other such applicant, and any person who is presently registered with DEA to manufacture such substances, may file comments or objections to the issuance of the proposed registration pursuant to 21 CFR 1301.33(a).

Any such written comments or objections should be addressed, in quintuplicate, to the Drug Enforcement Administration, Office of Diversion Control, Federal Register Representative (ODL), 8701 Morrissette Drive, Springfield, Virginia 22152; and must be filed no later than May 21, 2012.

Dated: March 8, 2012.
Joseph T. Rannazzisi,
Deputy Assistant Administrator, Office of Diversion Control, Drug Enforcement Administration.

[FR Doc. 2012-6705 Filed 3-19-12; 8:45 am]

BILLING CODE 4410-09-P